INTERNATIONAL TRADE COMMISSION

[Investigation No. 337-TA-928; Investigation No. 337-TA-937 (Consolidated)]

Certain Windshield Wipers and Components Thereof; Commission Determination To Grant the Joint Motion To Terminate the Investigation on the Basis of a Settlement Agreement; Termination of Investigation

AGENCY: U.S. International Trade Commission.

ACTION: Notice.

SUMMARY: Notice is hereby given that the U.S. International Trade Commission has determined to grant the joint motion to terminate the above-referenced investigation based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted investigation No. 337-TA-928, Certain Windshield Wipers and Components Thereof, under section 337 of the Tariff Act of 1930, as amended, 19 U.S.C. 1337 (“section 337”), on September 2, 2014, based on a complaint filed by Valeo North America, Inc. of Troy, MI, and Delmex de Juarez S. de R.L. de C.V. of Mexico (collectively, “Valeo”). The complaint alleges a violation of section 337 by reason of infringement of certain claims of U.S. Patent Nos. 7,891,044 (“the `044 patent”); 7,937,798 (“the `798 patent”); and 8,220,106 by Federal-Mogul Corp. of Southfield, Michigan, Federal-Mogul Vehicle Component Solutions, Inc. of Southfield, Michigan, and Federal-Mogul S.A. of Aubange, Belgium (collectively, “Federal-Mogul”). 79 FR 52041-42 (Sep. 2, 2014).

On October 15, 2014, Valeo filed another complaint, against Trico Products Corporation of Rochester Hills, Michigan; Trico Products of Brownsville, Texas; and Trico Componentes SA de CV of Tamaulipas, Mexico (collectively, “Trico,” Respondent, or Respondents), asserting a violation of section 337(a)(1)(B) by reason of infringement of one or more claims of the '044 patent and the '798 patent. On November 21, 2014, the Commission instituted Investigation No. 337-TA-937, Certain Windshield Wipers and Components Thereof, based on this complaint filed by Valeo against Trico. 79 FR 69525-26 (Nov. 21, 2014). Subsequently, the two investigations were consolidated. Order No. 8, Inv. No. 337-TA-928 (Dec. 9, 2014). The Office of Unfair Import Investigations (“OUII”) is not participating in this investigation.

On May 19, 2015, Valeo and Federal-Mogul reached a settlement agreement and filed a joint motion to terminate the Federal-Mogul respondents from the consolidated investigation, which was granted on June 5, 2015. See ALJ Order No. 24, Inv. No. 337-TA-928 (June 5, 2015) (not reviewed June 29, 2015).

On May 27, 2016, Valeo and Trico filed a joint motion to terminate the investigation on the basis of a settlement agreement. On June 10, 2016, the Commission extended the target date for completion of this investigation to June 30, 2016.

Having examined the joint motion, the settlement agreement, and the record of this investigation, the Commission has determined to grant the joint motion to terminate the investigation and finds the motion in compliance with Commission rule 210.21(b). The Commission finds, pursuant to Commission rule 210.50(b)(2), that this termination will not prejudice the public interest.

The authority for the Commission's determination is contained in section 337 of the Tariff Act of 1930, as amended (19 U.S.C. 1337), and in Part 210 of the Commission's Rules of Practice and Procedure (19 CFR part 210).

By order of the Commission.
Issued: June 27, 2016.
Lisa R. Barton,
Secretary to the Commission.

[FR Doc. 2016-15611 Filed 6-30-16; 8:45 am]

BILLING CODE P